DEPARTMENT OF VETERANS AFFAIRS

VA High Risk List Action Plan Update, Managing Risks and Improving VA Health Care

AGENCY: Department of Veterans Affairs.

ACTION: Notice.

SUMMARY: Notice is given that the Department of Veterans Affairs (VA) High Risk List Action Plan Update—Managing Risks and Improving VA Health Care report to the U.S. Government Accountability Office (GAO) is available for public review at https://www.va.gov/performance/. In this update, VA provides the status on actions taken through March 2022; future planned actions with detailed project milestones; refined goals and objectives; a resource assessment; information on work related to the Coronavirus Disease 2019 pandemic.

FOR FURTHER INFORMATION CONTACT: Karen Rasmussen, M.D., Director for GAO-OIG Accountability Liaison at VHA10BGOALGAOHRL@va.gov or (202) 340-9429 (This is not a toll-free number).

SUPPLEMENTARY INFORMATION: The 2022 update also provides a response to critiques made in GAO's 2021 High Risk Series: Dedicated Leadership Needed to Address Limited Progress in Most High-Risk Areas (21-119SP), published March 2, 2021. VA's commitment to addressing the management functions GAO highlighted in its report will ensure initiatives continue to be reinforced by sound policy; are implemented by staff with the right knowledge, skills and abilities; receive the right information technology support; identify and secure essential human and financial resources; have management oversight; and are accountable throughout planning, implementation and reinforcement. Leaders in the Veterans Health Administration, in partnership with the Office of Information Technology, continue to establish a unified vision for ensuring VA effectively takes action to address the five areas of concern and drives organizational accountability toward resolution of the high-risk listing.

Signing Authority: Denis McDonough, Secretary of Veterans Affairs, approved this document on September 14, 2022, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2022-20435 Filed 9-20-22; 8:45 am]

BILLING CODE 8320-01-P